CONSUMER PRODUCT SAFETY COMMISSION

16 CFR Part 1217

RIN 3041-AC79

Safety Standard for Toddler Beds

Correction

In rule document 2011-9421 beginning on page 22019 in the issue of Wednesday, April 20, 2011, make the following correction:

§ 1217.2 [Corrected]

On page 22029, in § 1217.2(c)(6), at the bottom of the page, insert §§ 1217.2(c)(6)(iii), 1217.2(c)(6)(iv), and 1217.2(c)(7), which should read:

(iii) 8.4.4 Toddler beds that convert from a full-size crib, also known as convertible cribs, must meet the warning requirements specified in section 8 of ASTM F 1169-10, instead of the requirements of 8.4.3. See 16 CFR Part 1219 for complete requirements for full-size cribs.

(iv) 8.4.5 Any toddler bed that can convert from a full-size crib, and has the warning specified in section 8.1.3 of ASTM F 1169-10, must include additional text at the end of that warning that specifies the minimum mattress thickness of 4 inches (100 mm). See 16 CFR Part 1219 for complete requirements for full-size cribs.

(7) In addition to figure 10 of ASTM F 1821-09, use the following:

[FR Doc. C1-2011-9421 Filed 5-12-11; 8:45 am]

BILLING CODE 1505-01-D